DEPARTMENT OF TRANSPORTATION

Federal Aviation Administration

Notice of Intent To Rule on Application 04-05-C-00-HTS To Impose and Use the Revenue From a Passenger Facility Charge (PFC) at Tri-State Airport, Huntington, WV

AGENCY: Federal Aviation Administration (FAA), DOT.

ACTION: Notice of intent to rule on application.

SUMMARY: The FAA proposes to rule and invites public comment on the application to impose and use the revenue from a PFC at Tri-State Airport under the provisions of the Aviation Safety and Capacity Expansion Act of 1990 (Title IX of the Omnibus Budget Reconciliation Act of 1990) (Pub. L. 101-508) and part 158 of the Federal Aviation Regulations (14 CFR part 159).

DATES: Comments must be received on or before October 7, 2004.

ADDRESSES: Comments on this application may be mailed or delivered in triplicate to the FAA at the following address: Beckley Airports District Office, 176 Airport Circle, Room 101, Beaver, West Virginia 25813.

In addition, on copy of any comments submitted to the FAA must be mailed or delivered to Mr. Larry Salyers, Airport Director of the Tri-State Airport Authority at the following address: 1449 Airport Road, Huntington, West Virginia 25704-9043.

Air carriers and foreign air carriers may submit copies of written comments previously provided to the Tri-State Airport Authority under section 158.23 of part 158.

FOR FURTHER INFORMATION CONTACT: Mr. Larry F. Clark, Manager, Airports District Office, 176 Airport Circle, Room 101, Beaver, West Virginia 25813, (304) 252-6216. The application may be reviewed in person at this same location.

SUPPLEMENTARY INFORMATION: The FAA proposes to rule and invites public comment on the application to impose and use the revenue from a PFC at Tri-State Airport under the provisions of the Aviation Safety and Capacity Expansion Act of 1990 (Title IX of the Omnibus Budget Reconciliation Act of 1990) (Pub. L. 101-508) and part 158 of the Federal Aviation Regulations (14 CFR part 158).

On August 23, 2004, the FAA determined that the application to impose and use the revenue from a PFC submitted by Tri-State Airport Authority was substantially complete within the requirements of section 158.25 of part 158. The FAA will approve or disapprove the application, in whole or in part, no later than December 7, 2004.

The following is a brief overview of the application.

PFC application No.: 04-05-C-00-HTS.

Level of the proposed PFC: $3.00.

Proposed charge effective date: December 1, 2007.

Proposed charge expiration date: December 1, 2011.

Total estimated PFC revenue: $436,233.

Brief description of proposed project(s):

—Taxiway A Rehabilitation

—Water System Rehabilitation

—Acquire Friction Measuring Equipment

—Aircraft Rescue & Fire Fighting (ARFF) Building Rehabilitation

—Airfield Drainage Rehabilitation

—Passenger Facility Charge (PFC) Preparation

—Terminal Building Renovations and Loading Bridge

—Relocate and Replace Rotating Beacon

—Acquire Snow Removal Equipment (2 Plows, 1 Cab Over Truck)

—Air Carrier Apron Rehabilitation

—General Aviation Apron Rehabilitation

Class or classes of air carriers which the public agency has requested not be required to collect PFCs: Non-Scheduled/On Demand Air Carrier Operators filing FAA Form 1800-31.

Any person may inspect the application in person at the FAA office listed above under FOR FURTHER INFORMATION CONTACT and at the FAA regional airports office located at: 1 Aviation Plaza, Airports Division, AEA-610, Jamaica, New York 11434.

In addition, any person may, upon request, inspect the application, notice and other documents germane to the application in person at the Central West Virginia Regional Airport Authority.

Issued in Beckley, West Virginia on August 24, 2004.
Larry F. Clark,
Manager, Beckley ADO, Eastern Region.

[FR Doc. 04-20255 Filed 9-3-04; 8:45 am]

BILLING CODE 4910-13-M